DEPARTMENT OF COMMERCE

International Trade Administration

Exporters' Textile Advisory Committee; Notice of Open Meeting

A meeting of the Exporters’ Textile Advisory Committee will be held on May 8, 2008 from 10:00AM- 1:00 PM at the U.S Department of Commerce, U.S. Export Assistance Center, 444 S. Flower St. 34th Floor, Los Angeles, CA 90071.

The Committee provides advice and guidance to Department officials on the identification and surmounting of barriers to the expansion of textile exports, and on methods of encouraging textile firms to participate in export expansion.

The Committee functions solely as an advisory body in accordance with the provisions of the Federal Advisory Committee Act.

The meeting will be open to the public with a limited number of seats available. For further information contact Larry Brill at (202) 482-1856. Minutes of all ETAC meetings are posted at otexa.ita.doc.gov.

Dated: February 26, 2008.

Janet E. Heinzen,
Acting Chairman, Committee for Implementation of Textile Agreements.

[FR Doc. E8-4053 Filed 2-29-08; 8:45 am]

BILLING CODE 3510-DR-S